DEPARTMENT OF HOMELAND SECURITY

Coast Guard

33 CFR Part 100

[Docket No. USCG-2020-0140]

Special Local Regulation; California Half Ironman Triathlon, Oceanside, CA

AGENCY: Coast Guard, DHS.

ACTION: Notice of enforcement of regulation.

SUMMARY: The Coast Guard will enforce the California Half Ironman Triathlon special local regulation on the waters offshore Oceanside and within Oceanside Harbor, California on April 4, 2020. These special local regulations are necessary to provide for the safety of the participants, crew, spectators, sponsor vessels of the triathlon, and general users of the waterway. During the enforcement period, persons and vessels are prohibited from entering into, transiting through, or anchoring within this regulated area unless authorized by the Captain of the Port, or his designated representative.

DATES: The regulations in 33 CFR 100.1101 will be enforced for the California Half Ironman Triathlon regulated area listed in item 2 in Table 1 to § 100.1101 from 6 a.m. to 10 a.m. on April 4, 2020.

FOR FURTHER INFORMATION CONTACT: If you have questions about this notice of enforcement, call or email Lieutenant Briana Biagas, Waterways Management, U.S. Coast Guard Sector San Diego, CA; telephone (619) 278-7656, email D11MarineEventsSD@uscg.mil.

SUPPLEMENTARY INFORMATION: The Coast Guard will enforce the special local regulations in 33 CFR 100.1101 for the California Half Ironman Triathlon in Oceanside, CA from 6 a.m. to 10 a.m. on April 4, 2020. This action is being taken to provide for the safety of life on navigable waterways during the triathlon event. Our regulation for marine events within the Eleventh Coast Guard District, Table 1 to § 100.1101, item 2, specifies the location of the regulated area for the California Half Ironman Triathlon which encompasses the waters of Oceanside Harbor, CA, including the entrance channel. Under the provisions of § 100.1101, persons and vessels are prohibited from anchoring, blocking, loitering, or impeding within this regulated area unless authorized by the Captain of the Port, or his designated representative. The Coast Guard may be assisted by other Federal, State, or local law enforcement agencies in enforcing this regulation.

In addition to this document in the Federal Register, the Coast Guard will provide the maritime community with advance notification of this enforcement period via the Local Notice to Mariners, Broadcast Notice to Mariners, and local advertising by the event sponsor.

If the Captain of the Port Sector San Diego or his designated representative determines that the regulated area need not be enforced for the full duration stated on this document, he or she may use a Broadcast Notice to Mariners or other communications coordinated with the event sponsor to grant general permission to enter the regulated area.

Dated: March 4, 2020.
T.J. Barelli,
Captain, U.S. Coast Guard, Captain of the Port San Diego.

[FR Doc. 2020-04789 Filed 3-9-20; 8:45 am]

BILLING CODE 9110-04-P